DEPARTMENT OF THE INTERIOR

Bureau of Land Management

[LLOR957000-L631000000-HD000: HAG11-0150]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 23 S., R. 8 W., accepted January 25, 2011

T. 22 S., R. 7 W., accepted January 25, 2011

T. 35 S., R. 5 W., accepted January 27, 2011

T. 34 S., R. 2 W., accepted February 10, 2011

T. 30 S., R. 3 W., accepted February 10, 2011

T. 21 S., R. 8 W., accepted February 22, 2011

Washington

T. 29 N., R. 36 E., accepted January 21, 2011

ADDRESSES: A copy of the plats may be obtained from the Land Office at the Bureau of Land Management, Oregon/Washington State Office, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Kyle Hensley, (503) 808-6124, Branch of Geographic Sciences, Bureau of Land Management, 333 SW. 1st Avenue, Portland, Oregon 97204.

Fred O'Ferrall,
Chief, Branch of Land, Mineral, and Energy Resources.

[FR Doc. 2011-5175 Filed 3-7-11; 8:45 am]

BILLING CODE 4310-33-P